DEPARTMENT OF COMMERCE

National Oceanic and Atmospheric Administration

RIN 0648-XD075

Endangered Species; File No. 18136

AGENCY: National Marine Fisheries Service (NMFS), National Oceanic and Atmospheric Administration (NOAA), Commerce.

ACTION: Notice; receipt of application.

SUMMARY: Notice is hereby given that Larry Wood, LDWood BioConsulting, Inc., 425 Kennedy Street, Jupiter, FL 33468, has applied in due form for a permit to take hawksbill (Eretmochelys imbricata) sea turtles for purposes of scientific research.

DATES: Written, telefaxed, or email comments must be received on or before February 18, 2014.

ADDRESSES: The application and related documents are available for review by selecting “Records Open for Public Comment” from the Features box on the Applications and Permits for Protected Species (APPS) home page, https://apps.nmfs.noaa.gov, and then selecting File No. 18136 from the list of available applications.

These documents are also available upon written request or by appointment in the following offices:

Permits and Conservation Division, Office of Protected Resources, NMFS, 1315 East-West Highway, Room 13705, Silver Spring, MD 20910; phone (301)427-8401; fax (301)713-0376; and

Southeast Region, NMFS, 263 13th Avenue South, Saint Petersburg, FL 33701; phone (727)824-5312; fax (727)824-5309.

Written comments on this application should be submitted to the Chief, Permits and Conservation Division.

• By email to NMFS.Pr1Comments@noaa.gov (include the File No. in the subject line of the email),

• By facsimile to (301)713-0376, or

• At the address listed above.

Those individuals requesting a public hearing should submit a written request to the Chief, Permits and Conservation Division at the address listed above. The request should set forth the specific reasons why a hearing on this application would be appropriate.

FOR FURTHER INFORMATION CONTACT: Amy Hapeman or Kristy Beard, (301)427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant requests a five-year research permit to continue to describe the abundance and movements of an aggregation of hawksbill sea turtles found on the barrier reefs of southeast Florida. Up to 50 sea turtles would be approached during dives for observation and photographs annually. Up to 25 additional animals would be hand captured, measured, flipper and passive integrated transponder tagged, photographed, tissue sampled, and released annually. In addition, up to six sub-adult and six adult hawksbills would be captured for the above procedures and fitted with a satellite transmitter prior to their release.

Dated: January 10, 2014.
Donna S. Wieting,
Director, Office of Protected Resources, National Marine Fisheries Service.

[FR Doc. 2014-00704 Filed 1-16-14; 8:45 am]

BILLING CODE 3510-22-P